DEPARTMENT OF HEALTH AND HUMAN SERVICES

National Institutes of Health

National Center for Research Resources; Notice of Meetings

Pursuant to section 10(d) of the Federal Advisory Committee Act, as amended (5 U.S.C. Appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Initial Review Group, Comparative Medicine Review Committee.

Date: February 3-4, 2004.

Open: February 3, 2004, 8 a.m. to 8:30 a.m.

Agenda: To discuss program planning and other issues.

Place: Bethesda Marriott Suites, 6711 Democracy Boulevard, Bethesda, MD 20817.

Closed: February 3, 2004, 8:30 a.m. to Adjournment.

Agenda: To review and evaluate grant applications.

Place: Bethesda Marriott Suites, 6711 Democracy Boulevard, Bethesda, MD 20817.

Contact Person: Guo Zhang, MD, PhD, Scientific Review Administrator, Office of Review, National Center for Research Resources, National Institutes of Health, One Democracy Plaza, 6701 Democracy Blvd., Room WS-1064, 10th Floor, Bethesda, MD 20814-9692, (301) 435-0812, zhanggu@mail.nih.gov.

Name of Committee: National Center for Research Resources Initial Review Group, Clinical Research Review Committee.

Date: February 11-12, 2004.

Open: February 11, 2004, 8 a.m. to 8:30 a.m.

Agenda: To discuss program planning and other issues.

Place: Holiday Inn Select Bethesda, 8120 Wisconsin Ave., Bethesda, MD 20814.

Closed: February 11, 2004, 8:30 a.m. to Adjournment.

Agenda: To review and evaluate grant applications.

Place: Holiday Inn Select Bethesda, 8120 Wisconsin Ave., Bethesda, MD 20814.

Contact Person: Sheryl K. Brining, PhD, Director Office of Review, National Institutes of Health, 6701 Democracy Blvd., 1 Democracy Plaza, Room 1074, Bethesda, MD 20892-4874, 301-435-0809, sb44k@nih.gov.

(Catalogue of Federal Domestic Assistant Program Nos. 93.306, Comparative Medicine; 93.333, Clinical Research; 93.371, Biomedical Technology; 93.389, Research Infrastructure, 93.306, 93.333, National Institutes of Health, HHS)
Dated: October 27, 2003.
LaVerne Y. Stringfield,
Director, Office of Federal Advisory Committee Policy.

[FR Doc. 03-27580 Filed 10-31-03; 8:45 am]

BILLING CODE 4140-01-M